NUCLEAR REGULATORY COMMISSION

[Docket Nos. 50-334 and 50-412; License Nos. DPR-66 and NPF-73]

FirstEnergy Nuclear Operating Company, FirstEnergy Nuclear Generation Corp. (Beaver Valley Power Station, Units 1 and 2); Order Approving Application Regarding Proposed Corporate Restructuring

I

FirstEnergy Nuclear Operating Company (FENOC) and FirstEnergy Nuclear Generation Corp. (FENGenCo) are the holders of Facility Operating License DPR-66 and along with the Ohio Edison Company and Toledo Edison Company Facility Operating License NPF-73, which authorize the possession, use, and operation of Beaver Valley Power Station, Unit 1 (BVPS 1) and Beaver Valley Power Station, Unit 2 (BVPS 2), respectively. The facilities are located in Beaver County, Pennsylvania.

II

By letter dated June 6, 2006, as supplemented by letters dated June 9 and August 15, 2006, FENOC, the licensed operator of BVPS 1 and 2, acting on behalf of FENGenCo and FirstEnergy Solutions Corp. (FE Solutions), submitted an application to the U.S. Nuclear Regulatory Commission (NRC or Commission) requesting, pursuant to Section 50.80 of Title 10 of the Code of Federal Regulations (10 CFR), approval of the indirect transfer of control of FENGenCo's licenses to own FENGenCo's interest in BVPS 1 and BVPS 2. FE Solutions and FENGenCo are both currently wholly owned direct subsidiaries of FirstEnergy Corp. (FirstEnergy). This action is being sought as a result of a planned corporate restructuring which would make FENGenCo: (1) A wholly owned direct subsidiary of FE Solutions; and 2) a wholly owned second-tier subsidiary of FirstEnergy. The Ohio Edison Company and the Toledo Edison Company, which hold leased interests in BVPS 2 and are licensed to possess such interests, are not involved in the planned corporate restructuring. The proposed corporate restructuring involves no changes to any of the facility licenses. Accordingly, no license amendments are requested in the application.

A “Notice of Consideration of Approval of Application Regarding Proposed Corporate Restructuring, and Opportunity for a Hearing,” was published in the Federal Register on July 12, 2006 (71 FR 39371-39372). No comments or hearing requests were received.

Under 10 CFR 50.80, no license, or any right thereunder, shall be transferred, directly or indirectly, through transfer of control of the license, unless the Commission shall give its consent in writing. Upon review of the information in the application submitted by FENOC and other information before the Commission, the NRC staff has determined that the subject corporate restructuring will not affect the qualifications of FENGenCo to hold the licenses to the same extent now held by FENGenCo, and that the indirect transfer of the licenses as held by FENGenCo effected by the corporate restructuring is otherwise consistent with applicable provisions of law, regulations, and orders issued by the Commission pursuant thereto, subject to the condition discussed herein.

The findings set forth above are supported by a safety evaluation dated December 28, 2006.

III

Accordingly, pursuant to Sections 161b, 161i, and 184 of the Atomic Energy Act of 1954, as amended (the Act), 42 U.S.C. 2201(b), 2201(i), and 2234; and 10 CFR 50.80, It is hereby ordered that the application regarding the proposed corporate restructuring and indirect license transfers is approved, subject to the following condition:

Should the proposed corporate restructuring not be completed by December 28, 2007, this Order shall become null and void, provided, however, upon written application and good cause shown, such date may be extended by order.

This Order is effective upon issuance.

For further details with respect to this Order, see the application dated June 6, 2006, as supplemented by letters dated June 9 and August 15, 2006, and the safety evaluation dated December 28, 2006, which are available for public inspection in the Commission's Public Document Room (PDR), located at One White Flint North, Public File Area O1 F21, 11555 Rockville Pike (first floor), Rockville, Maryland, and accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated: December 28, 2006.
For the Nuclear Regulatory Commission.
John W. Lubinski,
Acting Director, Division of Operating Reactor Licensing, Office of Nuclear Reactor Regulation.

[FR Doc. E7-2 Filed 1-5-07; 8:45 am]

BILLING CODE 7590-01-P